DEPARTMENT OF THE INTERIOR

National Park Service

Minor Boundary Revision at Cape Cod National Seashore

AGENCY: National Park Service, Interior.

ACTION: Announcement of park boundary revision.

SUMMARY: Notice is given that the boundary of the Cape Cod National Seashore has been revised pursuant to the Act specified below, to encompass lands depicted on the map prepared by the National Park Service entitled “Cape Cod National Seashore Boundary Revision Map”, dated May 1997, and numbered 609/80,801. The revision to the boundary includes tract 04-1081 as depicted on the map.

FOR FURTHER INFORMATION CONTACT: Superintendent, Cape Cod National Seashore, 99 Marconi Site Road, Wellfleet, MA 02667.

SUPPLEMENTARY INFORMATION: The Act of October 26, 1998 (Pub. L. 105-280, 112 Stat. 2694), authorized the Secretary to convey to the town of Provincetown approximately 7.62 acres within Cape Cod National Seashore in exchange for 11.16 acres located outside the national seashore. The purpose of the exchange is to allow for the establishment of a municipal solid waste treatment facility. The Act provides that, upon completion of the exchange, the national seashore boundary shall be revised to include the additional 11.16 acres. The exchange was completed on August 2, 1999.

The map is on file and available for inspection in the Land Resources Program Center, Northeast Regional Office, U.S. Customs House, 200 Chestnut Street, 3rd Floor, Philadelphia, Pennsylvania 19106-2988, and in the Offices of the National Park Service, Department of the Interior, Washington, DC 20240.

Dated: March 13, 2006.
Chrysandra L. Walter,
Deputy Regional Director, Northeast Region.

BILLING CODE 4310-WV-M

[FR Doc. 06-4953 Filed 5-30-06; 8:45 am]

BILLING CODE 4310-WV-C